DEPARTMENT OF COMMERCE

National Oceanic and Atmospheric Administration

[RTID 0648-XC997]

New England Fishery Management Council; Public Meeting; Correction

AGENCY: National Marine Fisheries Service (NMFS), National Oceanic and Atmospheric Administration (NOAA), Commerce.

ACTION: Notice of correction of a public meeting.

SUMMARY: The New England Fishery Management Council is convening an ad-hoc sub-panel of its Scientific and Statistical Committee (SSC) via webinar to consider actions affecting New England fisheries in the exclusive economic zone (EEZ). Recommendations from this group will be brought to the full Council for formal consideration and action, if appropriate.

DATES: This webinar will be held on Thursday, June 1, 2023, beginning at 1 p.m.

ADDRESSES:

Webinar registration information: https://attendee.gotowebinar.com/register/5510384372857768792.

Call in information: 1 (415) 655-0060, Access Code: 723-991-313.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The original notice published in the Federal Register on May 11, 2023 (88 FR 30300). The original notice stated that the webinar meeting would begin at 9 a.m. This notice corrects the start time of the meeting to 1 p.m.

All other previously-published information remains unchanged.

Authority: 16 U.S.C. 1801 et seq.

Dated: May 11, 2023.
Rey Israel Marquez,
Acting Deputy Director, Office of Sustainable Fisheries, National Marine Fisheries Service.

[FR Doc. 2023-10416 Filed 5-15-23; 8:45 am]

BILLING CODE 3510-22-P